DEPARTMENT OF EDUCATION

[CFDA No. 84.358]

Small, Rural School Achievement Program and Rural and Low-Income School Program

AGENCY: Office of Elementary and Secondary Education, Department of Education.

ACTION: Notice announcing acceptability of Alternative Average Daily Attendance (ADA) data and establishing state deadline for submission of ADA and other eligibility and allocation data.

SUMMARY: Part B of Title VI of the Elementary and Secondary Education Act (ESEA) authorizes the Secretary of Education to award funds under two grant programs that are designed to address the unique needs of rural school districts—the Small, Rural School Achievement Program (section 6212) and the Rural and Low-Income School Program (section 6221). Under the Small, Rural School Achievement Program, the Secretary awards grants directly to eligible local educational agencies (LEAs) on a formula basis. Under the Rural and Low-Income School Program, the Secretary awards formula grants to State educational agencies (SEAs), which in turn award subgrants to eligible LEAs either competitively or by formula. If a State chooses not to participate in the Rural and Low-Income School Program, the Secretary awards grants directly to eligible LEAs in that State.

The Department has prepared an Excel spreadsheet and instructions for SEAs to use in submitting the data needed to determine an LEA's eligibility for an award and allocations under the programs. These documents are available on the Department's Web site at http://www.ed.gov/offices/OESE/reap.html.

In this notice, the Department (1) announces that, for the first year of funding under the Small, Rural School Achievement Program and the Rural and Low-Income Program, it will accept alternative average daily attendance data that are consistent with the definition in section 6231(a) of the ESEA; and (2) establishes a deadline by which States may submit LEA eligibility data and allocation data for the programs.

Average Daily Attendance Data: An LEA's eligibility for funding under the Small, Rural School Achievement Program, as well as the amount of its grant award, is based, in part, on the number of students in average daily attendance (ADA) in the schools of the LEA. ADA data also affect an LEA's eligibility under the Rural and Low-Income Program because an LEA may not receive an award under that program if it is eligible for funding under the Small, Rural School Achievement Program. Furthermore, ADA data are used to determine the amount of each State's allocation under the Rural and Low-Income Program.

Section 6231(a) of the ESEA states that for purposes of the rural education programs, not later than December 1 of each year, an LEA must “conduct a census to determine the number of students in average daily attendance in kindergarten through grade 12 at the schools served by the agency.” This provision further requires that the ADA data be submitted no later than March 1 of each year. Thus, an ADA submission for the first year of the rural education programs should be based on a census conducted by December 1, 2001. The Secretary recognizes that not all SEAs or LEAs determine ADA on the basis of a census. Given that the legislation authorizing the rural education programs was enacted on January 8, 2002, a date after the period in which the initial census should have been conducted, for the purposes of determining FY 2002 eligibility and allocations under these programs the Department will accept alternative ADA data that are consistent with the statutorily required data (e.g., ADA data that are based on a percentage of enrollment).

Deadline for State Submission of ADA and Other Data: The legislation requires LEAs desiring a grant under either rural education program to submit ADA data to the Department by March 1 of each year (ESEA section 6231(a)(2)). A State must submit “such information as the Secretary may reasonably require” before receiving its allocation under the Rural and Low-Income Program (ESEA section 6223(a)). The Department is requesting that SEAs submit ADA data on behalf of their LEAs as well as other data needed to determine eligibility and to make allocations under the Small, Rural School Achievement Program and the Rural and Low-Income Program in order to (1) ensure maximum LEA participation in all States in both programs; (2) assist LEAs in demonstrating eligibility for funding and in providing data necessary to determine LEA and SEA allocations under the programs; (3) facilitate the process by which the Department makes awards; and (4) ensure that SEAs and LEAs receive their funds on a timely basis. SEAs should submit the data electronically on the Excel spreadsheet referenced above.

Although the legislation states that ADA data are to be submitted by March 1, given that this is the first year of the program and that the period of time between the date of enactment of the legislation and the ADA submission date is so short, the Department is extending the deadline for submission of ADA data for this year. The Department will permit States to submit, through April 1, 2002, ADA and other data that the Department needs to determine eligibility and allocations under the rural education programs. All of the relevant data are specified on the Excel spreadsheet and accompanying instructions. To avail itself of this extension, an SEA must notify the Department by March 1, 2002, that it cannot submit the applicable data by March 1, but that it will provide this information by April 1, 2002 or an earlier specified date.

FOR FURTHER INFORMATION CONTACT: Mr. Charles Lovett, Group Leader. Telephone: (202) 401-0039 or via Internet: charles.lovett@ed.gov.

If you use a telecommunications device for the deaf (TDD), you may call the Federal Information Relay Service (FIRS) at 1-800-877-8339.

Individuals with disabilities may obtain this notice in an alternative format (e.g., Braille, large print, audiotape, or computer diskette) on request to the contact person listed above.

Electronic Access To This Document: You may view this document, as well as other Department of Education documents published in the Federal Register in text or Adobe Portable Document Format (PDF) on the Internet at the following site: www.ed.gov/legislation/FedRegister/.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO access at: http://www.access.gpo.gov/nara/index.html.

Program Authority: Sections 6201 through 6234 of the ESEA, as amended by the No Child Left Behind Act of 2001 (Pub. L. 107-110).

Dated: February 15, 2002.
Susan B. Neuman,
Assistant Secretary for Elementary and Secondary Education.

[FR Doc. 02-4234 Filed 2-20-02; 8:45 am]

BILLING CODE 4000-01-P